DEPARTMENT OF HEALTH AND HUMAN SERVICES

National Institutes of Health

National Library of Medicine; Notice of Meetings

Pursuant to section 10(d) of the Federal Advisory Committee Act, as amended, notice is hereby given of a meeting of the National Library of Medicine Board of Scientific Counselors.

The meeting will be open to the public as indicated below. Individuals who plan to attend and need special assistance, such as sign language interpretation or other reasonable accommodations should notify the Contact Person listed below in advance of the meeting.

The meeting will be closed to the public as indicated below in accordance with the provisions set forth in section 552b(c)(6), Title 5 U.S.C., as amended for review, discussion, and evaluation of individual intramural programs and projects conducted by the National Library of Medicine, including consideration of personnel qualifications and performance, and the competence of individual investigators, the disclosure of which would constitute a clearly unwarranted invasion of personal privacy.

Name of Committee: National Library of Medicine Board of Scientific Counselors.

Date: April 27, 2023.

Open: April 27, 2023, 11:00 a.m. to 12:35 p.m.

Agenda: Program Discussion and Investigator Report.

Place: Virtual Meeting.

Closed: April 27, 2023, 12:35 p.m. to 1:20 p.m.

Agenda: To review and evaluate personal qualifications, performance, and competence of individual investigators.

Open: April 27, 2023, 1:50 p.m. to 2:35 p.m.

Agenda: Investigator Report.

Closed: April 27, 2023, 2:35 p.m. to 4:30 p.m.

Agenda: To review and evaluate personal qualifications, performance, and competence of individual investigators.

Contact Person: Valerie Florance, Ph.D., Acting Scientific Director, National Library of Medicine, National Institutes of Health, 8600 Rockville Pike, Bethesda, MD 20894, 240-603-9822, florancev@mail.nih.gov.

Any member of the public may submit written comments no later than 15 days in advance of the meeting. Any interested person may file written comments with the committee by forwarding the statement to the Contact Person listed on this notice. The statement should include the name, address, telephone number and when applicable, the business or professional affiliation of the interested person.

Open sessions of this meeting will be broadcast to the public, and available for viewing at https://videocast.nih.gov on April 27, 2023. Please direct any questions to the Contact Person listed on this notice.

(Catalogue of Federal Domestic Assistance Program No. 93.879, Medical Library Assistance, National Institutes of Health, HHS)

Dated: September 30, 2022.
Miguelina Perez,
Program Analyst, Office of Federal Advisory Committee Policy.

[FR Doc. 2022-21700 Filed 10-5-22; 8:45 am]

BILLING CODE 4140-01-P